DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.). Written data or comments should be submitted to the Director, U.S. Fish and Wildlife Service, Division of Management Authority, 4401 North Fairfax Drive, Room 700, Arlington, Virginia 22203 and must be received by the Director within 30 days of the date of this publication.

Applicant: Jill D. Pruetz, Ph.D., East Stroudsburg, PA, PRT-040364

The applicant request a permit to import biological samples from wild chimpanzees (Pan troglodytes) non-invasively collected in Senegal for the purpose of scientific research. This notification covers activities conducted by the applicant for a period of five years.

Applicant: Don P. (RIP) Miller, II, Austin, TX, PRT-043731

The applicant requests a permit to import the sport-hunted trophy of one male bontebok (Damaliscus pygargus dorcas) culled from a captive herd maintained under the management program of the Republic of South Africa, for the purposes of enhancement of the survival of the species.

Applicant: Center For Environmental Research and Conservation, Columbia University, New York, NY PRT-824210

The applicant requests re-issuance of a permit to import biological samples obtained from captive or wild specimens of capped langur (Trachypithecus pileatus), golden langur (T. geei), Douc langur (Pygathrix nemaeus), Guizhou sub-nosed langur (P. brelichi), Sichaun snub-nosed langur (P. roxellana), Tonkin snub-nosed langur (P. avunculus), Yunnan snub-nosed langur (P. bieti), Pagi Island langur (Nasalis concolor), purple-faced langur (T. vetulus = Presbytis senex), Francois' langur (T. francoisi = P. francoisi), long-tailed langur (Presbytis potenziani), gray langur (Semnopithecus entellus), stump-tailed macaque (Macaque arctoides), Formosan rock macaque (M. cyclopis), Japanese macaque (M. fuscata), toque macaque (M. sinico), lion-tailed macaque (M. silenus), orangutan (Pongo pygmaeus) and proboscis monkey (Nasalis larvatus) for the purpose of scientific research. This notification covers activities conducted by the applicant for a period of five years.

Applicant: Center For Environmental Research and Conservation, Columbia University, New York, NY PRT-024566

The applicant requests re-issuance of a permit to import biological samples obtained from captive or wild specimens gibbons (Hylobates species) for the purpose of scientific research. This notification covers activities conducted by the applicant for a period of five years.

Marine Mammals

The public is invited to comment on the following application(s) for a permit to conduct certain activities with marine mammals. The application(s) was submitted to satisfy requirements of the Marine Mammal Protection Act of 1972, as amended (16 U.S.C. 1361 et seq.) and the regulations governing marine mammals (50 CFR 18).

Written data, comments, or requests for copies of these complete applications or requests for a public hearing on these applications should be sent to the U.S. Fish and Wildlife Service, Division of Management Authority, 4401 N. Fairfax Drive, Room 700, Arlington, Virginia 22203, telephone 703/358-2104 or fax 703/358-2281. These requests must be received within 30 days of the date of publication of this notice. Anyone requesting a hearing should give specific reasons why a hearing would be appropriate. The holding of such a hearing is at the discretion of the Director.

Applicant: Aquamarine Fukushima, Iwaki, Japan, PRT-020575.

Permit Type: Take and Export for public display.

Name and Number of Animals: Northern sea otter (Enhydra lutris lutris), 1.2.

Summary of Activity to be Authorized: The applicant requests a permit to live capture from the waters of Alaska 3 adult Northern sea otters and export them to their facility in Japan for the purpose of public display.

Source of Marine Mammals: Wild sea otters from Alaska.

Period of Activity: Up to 5 years, if issued.

Applicant: Ibaraki Prefectural Oarai Aquairium, Ibaraki, Japan. PRT-043001.

Permit Type: Take and Export for public display.

Name and Number of Animals: Northern sea otter (Enhydra lutris lutris), 1.4.

Summary of Activity to be Authorized: The applicant requests a permit to live capture from the waters of Alaska 5 adult Northern sea otters and export them to their facility in Japan for the purpose of public display.

Source of Marine Mammals: Wild sea otters from Alaska.

Period of Activity: Up to 5 years, if issued.

Applicant: California Department of Fish and Game, Santa Cruz, California, PRT-039953.

Permit Type: Take for Enhancement.

Name and Number of Animals: Southern sea otter (Enhydra lutris nereis), variable number.

Summary of Activity to be Authorized: The applicant requests an enhancement permit to hold Southern sea otters for rehabilitation purposes at their Marine Wildlife Veterinary Care and Research Center; animals will be held for rehabilitation purposes pending return to the wild.

Source of Marine Mammals: Stranded animals in need of rehabilitation.

Period of Activity: Up to 5 years, if issued.

Concurrent with the publication of this notice in the Federal Register, the Division of Management Authority is forwarding copies of the above applications to the Marine Mammal Commission and the Committee of Scientific Advisors for their review.

Applicant: Richard T. Adams, Verdi, NV, PRT-043591.

The applicant requests a permit to import a polar bear (Ursus maritimus) sport-hunted from the Norwegian Bay polar bear population in Canada for personal use.

Applicant: Frank Huschitt, Grayslake, IL, PRT-043606

The applicant requests a permit to import a polar bear (Ursus maritimus) sport-hunted from the Lancaster Sound polar bear population in Canada for personal use.

Applicant: Alfred Cito, Manasquan, NJ, PRT-043609.

The applicant requests a permit to import a polar bear (Ursus maritimus) sport hunted prior to April 30, 1994, from the Northern Beaufort polar bear population in Canada for personal use.

Applicant: James A. Cummings, Fort Lauderdale, FL, PRT-043611.

The applicant requests a permit to import a polar bear (Ursus maritimus) sport-hunted from the Lancaster Sound polar bear population in Canada for personal use.

Applicant: Thomas E. Ferry, Ponca, NE, PRT-043735.

The applicant requests a permit to import a polar bear (Ursus maritimus) sport-hunted from the Northern Beaufort Sea polar bear population in Canada for personal use.

Applicant: Bruce DeShano, Pigeon, MI, PRT-043824.

The applicant requests a permit to import a polar bear (Ursus maritimus) sport-hunted from the Northern Beaufort Sea polar bear population in Canada for personal use.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203. Phone: (703/358-2104); Fax: (703/358-2281).

Dated: June 1, 2001.
Monica Farris,
Senior Biologist, Branch of Permits, Office of Management Authority.

[FR Doc. 01-15092 Filed 6-14-01; 8:45 am]

BILLING CODE 4310-55-P